NUCLEAR REGULATORY COMMISSION

[Docket No. 52-008]

Dominion Nuclear North Anna, LLC, North Anna Early Site Permit; Notice of Intent To Prepare an Environmental Impact Statement and Conduct Scoping Process

Dominion Nuclear North Anna, LLC (Dominion) has submitted an application for an early site permit (ESP) for a location in central Virginia identified as the North Anna ESP site. The site is located near the Town of Mineral in Louisa County, Virginia, on the southern shore of Lake Anna. The application for the ESP was submitted by letter dated September 25, 2003, pursuant to 10 CFR part 52. The application also includes a site redress plan in accordance with 10 CFR 52.17(c) and 52.25. If a site redress plan is incorporated in an approved ESP, the applicant may carry out certain site preparation work and limited construction activities. A notice of receipt and availability of the application, which included the environmental report (ER), was published in the Federal Register on October 16, 2003 (68 FR 59642). A notice of acceptance for docketing of the application for the ESP was published in the Federal Register on October 29, 2003, (68 FR 61705). The purpose of this notice is to inform the public that the U.S. Nuclear Regulatory Commission (NRC) will be preparing an environmental impact statement (EIS) in support of the review of the ESP application and to provide the public an opportunity to participate in the environmental scoping process, as defined in 10 CFR 51.29. In addition, as outlined in 36 CFR 800.8, “Coordination with the National Environmental Policy Act,” the NRC plans to coordinate compliance with section 106 of the National Historic Preservation Act in meeting the requirements of the National Environmental Policy Act (NEPA).

In accordance with 10 CFR 52.17(a)(2), 10 CFR 51.45 and 10 CFR 51.50, Dominion submitted the ER as part of the application. The ER was prepared pursuant to 10 CFR parts 51 and 52 and is available for public inspection at the NRC Public Document Room (PDR), located at One White Flint North, 11555 Rockville Pike (first floor), Rockville, Maryland, or from the Publicly Available Records component of NRC's Agencywide Documents Access and Management System (ADAMS). ADAMS is accessible at http://www.nrc.gov/reading-rm/adams.html, which provides access through the NRC's Public Electronic Reading Room (PERR) link. Persons who do not have access to ADAMS, or who encounter problems in accessing the documents located in ADAMS, should contact the NRC's PDR Reference staff at 1-800-397-4209, or 301-415-4737, or by e-mail to pdr@nrc.gov. The application may also be viewed on the Internet at http://www.nrc.gov/reactors/new-licensing/license-reviews/esp/north-anna.html. In addition, the Louisa County Library, located at 881 Davis Highway, Mineral, Virginia, has agreed to make the ER available for public inspection.

The following key reference documents related to the ESP applications and the NRC staff's review process are available through the NRC's Web site at http://www.nrc.gov:

a. 10 CFR part 51, Environmental protection regulations for domestic licensing and related regulatory functions.

b. 10 CFR part 52, Early site permits; standard design certifications; and combined licenses for nuclear power plants.

c. 10 CFR part 100, Reactor site criteria.

d. NUREG-1555, Standard Review Plans for Environmental Reviews for Nuclear Power Plants.

e. NUREG/BR-0298, Brochure on Nuclear Power Plant Licensing Process.

f. Regulatory Guide 4.7, General Site Suitability Criteria for Nuclear Power Stations.

g. Fact Sheet on Nuclear Power Plant Licensing Process.

h. Draft Review Standard RS-002, Processing Applications for Early Site Permits.

i. NRR Office Instruction LIC-203, Procedural Guidance for Preparing Environmental Assessments and Considering Environmental Issues.

The regulations, NUREG-series documents, regulatory guide, and fact sheet can be found under Document Collections in the Electronic Reading Room on the NRC Web page. The draft review standard is at http://www.nrc.gov/reactors/new-licensing/license-reviews/esp/esp-public-comments-rs-002.html. Finally, Office Instruction LIC-203 can be found in ADAMS in two parts under accession numbers ML011710073 (main text) and ML011780314 (charts and figures).

This notice advises the public that the NRC intends to gather the information necessary to prepare an environmental impact statement (EIS) in support of the review of the application for the ESP and the site redress plan at the North Anna ESP site. Possible alternatives to the proposed action (issuance of the ESP at the North Anna ESP site) include no action and consideration of alternative sites. The NRC is required by 10 CFR 52.18 to prepare an EIS in connection with the issuance of an ESP. This notice is being published in accordance with the NEPA and the NRC's regulations found in 10 CFR part 51.

The NRC will first conduct a scoping process for the EIS and, as soon as practicable thereafter, will prepare a draft EIS for public comment. Participation in the scoping process by members of the public and local, State, Tribal, and Federal government agencies is encouraged. The scoping process for the EIS will be used to accomplish the following:

a. Define the proposed action which is to be the subject of the EIS.

b. Determine the scope of the EIS and identify the significant issues to be analyzed in depth.

c. Identify and eliminate from detailed study those issues that are peripheral or that are not significant.

d. Identify any environmental assessments and other EISs that are being or will be prepared that are related to, but are not part of the scope of the EIS being considered.

e. Identify other environmental review and consultation requirements related to the proposed action.

f. Indicate the relationship between the timing of the preparation of the environmental analyses and the Commission's tentative planning and decision-making schedule.

g. Identify any cooperating agencies and, as appropriate, allocate assignments for preparation and schedules for completing the EIS to the NRC and any cooperating agencies.

h. Describe how the EIS will be prepared, and include any contractor assistance to be used.

The NRC invites the following entities to participate in the scoping process:

a. The applicant, Dominion Nuclear North Anna, LLC.

b. Any Federal agency that has jurisdiction by law or special expertise with respect to any environmental impact involved, or that is authorized to develop and enforce relevant environmental standards.

c. Affected State and local government agencies, including those authorized to develop and enforce relevant environmental standards.

d. Any affected Indian tribe.

e. Any person who requests or has requested an opportunity to participate in the scoping process.

f. Any person who intends to petition for leave to intervene.

In accordance with 10 CFR 51.26, the scoping process for an EIS may include a public scoping meeting to help identify significant issues related to a proposed activity and to determine the scope of issues to be addressed in an EIS. The NRC will hold a public scoping meeting for the EIS regarding the North Anna ESP application and the associated site redress plan. The scoping meeting will be held in the Forum at the Louisa County Middle School, 1009 Davis Highway, Mineral, Virginia, on Monday, December 8, 2003. The meeting will convene at 7 p.m. and will continue until 10 p.m., as necessary. The meeting will be transcribed and will include: (1) An overview by the NRC staff of the NEPA environmental review process, the proposed scope of the EIS, and the proposed review schedule, and (2) the opportunity for interested government agencies, organizations, and individuals to submit comments or suggestions on the environmental issues or the proposed scope of the EIS. Additionally, the NRC staff will host informal discussions one hour before the start of the meeting outside the Forum in the Louisa County Middle School. No formal comments on the proposed scope of the EIS will be accepted during the informal discussions. To be considered, comments must be provided either at the transcribed public meeting or in writing, as discussed below. Persons may register to attend or present oral comments at the meeting on the scope of the NEPA review by contacting Ms. Stacey Imboden, by telephone at 1-800-368-5642, extension 2462, or by Internet to the NRC at NorthAnna_ESP@nrc.gov no later than December 3, 2003. Members of the public may also register to speak at the meeting within 15 minutes of the start of the meeting. Individual oral comments may be limited by the time available, depending on the number of persons who register. Members of the public who have not registered may also have an opportunity to speak, if time permits. Public comments will be considered in the scoping process for the EIS. Ms. Imboden will need to be contacted no later than December 3, 2003, if special equipment or accommodations are needed to attend or present information at the public meeting, so that the NRC staff can determine whether the request can be accommodated.

Members of the public may send written comments on the environmental scope of the North Anna ESP and site redress plan review to the Chief, Rules and Directives Branch, Division of Administrative Services, Office of Administration, Mailstop T-6D59, U.S. Nuclear Regulatory Commission, Washington, DC 20555-0001, and should cite the publication date and page number of this Federal Register notice. Comments may also be delivered to Room T-6D59, Two White Flint North, 11545 Rockville Pike, Rockville, Maryland, from 7:30 a.m. to 4:15 p.m. during Federal workdays. To be considered in the scoping process, written comments should be postmarked by January 9, 2004. Electronic comments may be sent by the Internet to the NRC at NorthAnna_ESP@nrc.gov. Electronic submissions should be sent no later than January 9, 2004, to be considered in the scoping process. Comments will be available electronically and accessible through the NRC's PERR link at http://www.nrc.gov/reading-rm/adams.html.

Participation in the scoping process for the EIS does not entitle participants to become parties to the proceeding to which the EIS relates. Notice of a hearing regarding the application for an ESP will be the subject of a future Federal Register notice.

At the conclusion of the scoping process, the NRC will prepare a concise summary of the determination and conclusions reached, including the significant issues identified, and will send a copy of the summary to each participant in the scoping process. The summary will also be available for inspection through the NRC's PERR link. The staff will then prepare and issue for comment the draft EIS, which will be the subject of separate notices and a separate public meeting. A copy will be available for public inspection at the above-mentioned address, and one copy per request will be provided free of charge. After receipt and consideration of the comments, the NRC will prepare a final EIS, which will also be available for public inspection.

Pursuant to the Coastal Zone Management Act of 1972, as amended, the applicant for a Federal license for an activity in Virginia is required to conduct its activities in a manner consistent with the federally approved Virginia Coastal Resources Management Program (see section 307(c)(1) of the Act and 15 CFR part 930, subpart D, §§ 930.50 et seq.). In this case, the applicant will submit a consistency certification to the Virginia Department of Environmental Quality (VDEQ) as part of its compliance with the Federal consistency requirements and request that VDEQ provide its concurrence in the consistency determination.

Information about the proposed action, the EIS, and the scoping process may be obtained from Ms. Imboden at the aforementioned telephone number or e-mail address.

Dated at Rockville, Maryland, this 18th day of November, 2003.
For the Nuclear Regulatory Commission.
K. Steven West,
Acting Program Director, License Renewal and Environmental Impacts Program, Division of Regulatory Improvement Programs, Office of Nuclear Reactor Regulation.

[FR Doc. 03-29249 Filed 11-21-03; 8:45 am]

BILLING CODE 7590-01-P